DEPARTMENT OF TRANSPORTATION

Federal Aviation Administration

14 CFR Part 97

[Docket No. 30455; Amdt. No. 3130]

Standard Instrument Approach Procedures, Weather Takeoff Minimums; Miscellaneous Amendments

AGENCY: Federal Aviation Administration (FAA), DOT.

ACTION: Final rule.

SUMMARY: This amendment establishes, amends, suspends, or revokes Standard Instrument Approach Procedures (SIAPs) and/or Weather Takeoff Minimums for operations at certain airports. These regulatory actions are needed because of the adoption of new or revised criteria, or because of changes occurring in the National Airspace System, such as the commissioning of new navigational facilities, addition of new obstacles, or changes in air traffic requirements. These changes are designed to provide safe and efficient use of the navigable airspace and to promote safe flight operations under instrument flight rules at the affected airports.

DATES: This rule is effective September 2, 2005. The compliance date for each SIAP and/or Weather Takeoff Minimums is specified in the amendatory provisions.

The incorporation by reference of certain publications listed in the regulations is approved by the Director of the Federal Register as of September 2, 2005.

ADDRESSES: Availability of matters incorporated by reference in the amendment is as follows:

For Examination—

1. FAA Rules Docket, FAA Headquarters Building, 800 Independence Avenue, SW., Washington, DC 20591;

2. The FAA Regional Office of the region in which the affected airport is located;

3. The National Flight Procedures Office, 6500 South MacArthur Blvd., Oklahoma City, OK 73169 or,

4. The National Archives and Records Administration (NARA). For information on the availability of this material at NARA, call 202-741-6030, or go to: http://www.archives.gov/federal_register/code_of_federal_regulations/ibr_locations.html.

For Purchase—Individual SIAP and Weather Takeoff Minimums copies may be obtained from:

1. FAA Public Inquiry Center (APA-200), FAA Headquarters Building, 800 Independence Avenue, SW., Washington, DC 20591; or

2. The FAA Regional Office of the region in which the affected airport is located.

By Subscription—Copies of all SIAPs and Weather Takeoff Minimums mailed once every 2 weeks, are for sale by the Superintendent of Documents, U.S. Government Printing Office, Washington, DC 20402.

FOR FURTHER INFORMATION CONTACT: Donald P. Pate, Flight Procedure Standards Branch (AFS-420), Flight Technologies and Programs Division, Flight Standards Service, Federal Aviation Administration, Mike Monroney Aeronautical Center, 6500 South MacArthur Blvd. Oklahoma City, OK. 73169 (Mail Address: P.O. Box 25082 Oklahoma City, OK. 73125) telephone: (405) 954-4164.

SUPPLEMENTARY INFORMATION: This amendment to Title 14 of the Code of Federal Regulations, Part 97 (14 CFR part 97), establishes, amends, suspends, or revokes SIAPs and/or Weather Takeoff Minimums. The complete regulatory description of each SIAP and/or Weather Takeoff Minimums is contained in official FAA form documents which are incorporated by reference in this amendment under 5 U.S.C. 552(a), 1 CFR part 51, and 14 CFR part 97.20. The applicable FAA Forms are identified as FAA Forms 8260-3, 8260-4, 8260-5 and 8260-15A. Materials incorporated by reference are available for examination or purchase as stated above.

The large number of SIAPs and/or Weather Takeoff Minimums, their complex nature, and the need for a special format make their verbatim publication in the Federal Register expensive and impractical. Further, airmen do not use the regulatory text of the SIAPs and/or Weather Takeoff Minimums but refer to their depiction on charts printed by publishers of aeronautical materials. Thus, the advantages of incorporation by reference are realized and publication of the complete description of each SIAP and/or Weather Takeoff Minimums contained in FAA form documents is unnecessary. The provisions of this amendment state the affected CFR sections, with the types and effective dates of the SIAPs and/or Weather Takeoff Minimums. This amendment also identifies the airport, its location, the procedure identification and the amendment number.

The Rule

This amendment to 14 CFR part 97 is effective upon publication of each separate SIAP and/or Weather Takeoff Minimums as contained in the transmittal. Some SIAP and/or Weather Takeoff Minimums amendments may have been previously issued by the FAA in a Flight Data Center (FDC) Notice to Airmen (NOTAM) as an emergency action of immediate flight safety relating directly to published aeronautical charts. The circumstances which created the need for some SIAP, and/or Weather Takeoff Minimums amendments may require making them effective in less than 30 days. For the remaining SIAPs and/or Weather Takeoff Minimums, an effective date at least 30 days after publication is provided.

Further, the SIAPs and/or Weather Takeoff Minimums contained in this amendment are based on the criteria contained in the U.S. Standard for Terminal Instrument Procedures (TERPS). In developing these SIAPs and/or Weather Takeoff Minimums, the TERPS criteria were applied to the conditions existing or anticipated at the affected airports. Because of the close and immediate relationship between these SIAPs and/or Weather Takeoff Minimums and safety in air commerce, I find that notice and public procedure before adopting these SIAPs and/or Weather Takeoff Minimums are impracticable and contrary to the public interest and, where applicable, that good cause exists for making some SIAPs and/or Weather Takeoff Minimums effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (air).

Issued in Washington, DC on August 26, 2005.
James J. Ballough,
Director, Flight Standards Service.

Adoption of the Amendment

Accordingly, pursuant to the authority delegated to me, under Title 14, Code of Federal Regulations, Part 97 (14 CFR part 97) is amended by establishing, amending, suspending, or revoking Standard Instrument Approach Procedures and Weather Takeoff Minimums effective at 0901 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

* * * Effective 29 September 2005

Muscatine, IA, Muscatine Muni, ILS OR LOC RWY 24, Amdt 1

Salina, KS, Salina Muni, RNAV (GPS) RWY 17, Orig

Salina, KS, Salina Muni, RNAV (GPS) RWY 35, Orig

Salina, KS, Salina Muni, GPS RWY 17, Orig, CANCELLED

Salina, KS, Salina Muni, GPS RWY 35, Orig, CANCELLED

Detroit, MI, Detroit Metropolitan/Wayne County, RNAV (GPS) RWY 4L, Amdt 1

Detroit, MI, Detroit Metropolitan/Wayne County, RNAV (GPS) RWY 21L, Amdt 1

Detroit, MI, Detroit Metropolitan/Wayne County, RNAV (GPS) RWY 27L, Amdt 1

Detroit, MI, Detroit Metropolitan/Wayne County, RNAV (GPS) RWY 27R, Amdt 1

Detroit, MI, Detroit Metropolitan/Wayne County, ILS OR LOC RWY 4L, ILS RWY 4L(CAT II), ILS RWY 4L (CAT III), Amdt 2

Minneapolis, MN, Minneapolis-St. Paul Intl/Wold-Chamberlain, RNAV (GPS) RWY 12L,Amdt 1

Minneapolis, MN, Minneapolis-St. Paul Intl/Wold-Chamberlain, RNAV (GPS) RWY 12R, Amdt 1

Minneapolis, MN, Minneapolis-St. Paul Intl/Wold-Chamberlain, RNAV (GPS) RWY 22,Amdt 1

Minneapolis, MN, Minneapolis-St. Paul Intl/Wold-Chamberlain, RNAV (GPS) RWY 30L,Amdt 1

Minneapolis, MN, Minneapolis-St. Paul Intl/Wold-Chamberlain, RNAV (GPS) RWY 30R, Amdt 1

Minneapolis, MN, Minneapolis-St. Paul Intl/Wold-Chamberlain, COPTER ILS OR LOC RWY 30R, Amdt 1

Minneapolis, MN, Minneapolis-St. Paul Intl/Wold-Chamberlain, ILS PRM RWY 12L, Amdt 4, (SIMULTANEOUS CLOSE PARALLEL)

Minneapolis, MN, Minneapolis-St. Paul Intl/Wold-Chamberlain, ILS PRM RWY 30L, Amdt 5, (SIMULTANEOUS CLOSE PARALLEL)

Minneapolis, MN, Minneapolis-St. Paul Intl/Wold-Chamberlain, ILS PRM RWY 30R, Amdt 6, (SIMULTANEOUS CLOSE PARALLEL)

Minneapolis, MN, Minneapolis-St. Paul Intl/Wold-Chamberlain, ILS PRM RWY 12R, Amdt 3, (SIMULTANEOUS CLOSE PARALLEL)

Minneapolis, MN, Minneapolis-St. Paul Intl/Wold-Chamberlain, ILS OR LOC RWY 12L,ILS RWY 12L (CAT II), ILS RWY 12L (CAT III), Amdt 7

Minneapolis, MN, Minneapolis-St. Paul Intl/Wold-Chamberlain, ILS OR LOC RWY 30R,Amdt 11

Minneapolis, MN, Minneapolis-St. Paul Intl/Wold-Chamberlain, ILS OR LOC RWY 12R,ILS RWY 12R (CAT II), ILS RWY 12R (CAT III), Amdt 8

Minneapolis, MN, Minneapolis-St. Paul Intl/Wold-Chamberlain, ILS OR LOC RWY 30L,ILS RWY 30L, (CAT II), Amdt 44

Minneapolis, MN, Minneapolis-St. Paul Intl/Wold-Chamberlain, RNAV (GPS) Y RWY 22, Orig, CANCELLED

Minneapolis, MN, Minneapolis-St. Paul Intl/Wold-Chamberlain, RNAV (GPS) Y RWY 30R, Orig, CANCELLED

Minneapolis, MN, Minneapolis-St. Paul Intl/Wold-Chamberlain, RNAV (GPS) Y RWY 30L, Orig, CANCELLED

Minneapolis, MN, Minneapolis-St. Paul Intl/Wold-Chamberlain, RNAV (GPS) Y RWY 12R, Orig, CANCELLED

Minneapolis, MN, Minneapolis-St. Paul Intl/Wold-Chamberlain, RNAV (GPS) Y RWY 12L, Orig, CANCELLED

* * * Effective 27 October 2005

Nenana, AK, Nenana Muni, RNAV (GPS) RWY 4L, Orig

Nenana, AK, Nenana Muni, NDB RWY 4L, Amdt 2

Nenana, AK, Nenana Muni, Takeoff Minimums and Textual DP, Amdt 3

Glendale, AZ, Glendale Municipal, Takeoff Minimums and Textual DP, Amdt 1

Phoenix, AZ, Phoenix Deer Valley, Takeoff Minimums and Textual DP, Amdt 5

Holyoke, CO, Holyoke, RNAV (GPS) RWY 14, Orig

Holyoke, CO, Holyoke, RNAV (GPS) RWY 32, Orig

Holyoke, CO, Holyoke, Takeoff Minimums and Textual DP, Orig

Daytona Beach, FL, Daytona Beach Intl, RNAV (GPS) RWY 16, Amdt 1

Daytona Beach, FL, Daytona Beach Intl, RNAV (GPS) RWY 25R, Amdt 1

Driggs, ID, Driggs-Reed Memorial, RNAV (GPS) RWY 3, Amdt 1

Storm Lake, IA, Storm Lake Muni, RNAV (GPS) RWY 17, Orig

Storm Lake, IA, Storm Lake Muni, RNAV (GPS) RWY 35, Orig

Storm Lake, IA, Storm Lake Muni, NDB RWY 17, Orig

Storm Lake, IA, Storm Lake Muni, GPS RWY 35, Amdt 1, CANCELLED

Alton/St. Louis, IL, St. Louis Regional, RNAV (GPS) RWY 11, Orig

Alton/St. Louis, IL, St. Louis Regional, RNAV (GPS) RWY 17, Orig

Alton/St. Louis, IL, St. Louis Regional, RNAV (GPS) RWY 29, Orig

Alton/St. Louis, IL, St. Louis Regional, RNAV (GPS) RWY 35, Orig

Alton/St. Louis, IL, St. Louis Regional, ILS OR LOC RWY 29, Amdt 11

Alton/St. Louis, IL, St. Louis Regional, LOC BC RWY 11, Amdt 8

Alton/St. Louis, IL, St. Louis Regional, NDB RWY 17, Amdt 11

Alton/St. Louis, IL, St. Louis Regional, NDB RWY 29, Amdt 11

Alton/St. Louis, IL, St. Louis Regional, VOR-A, Amdt 9

Alton/St. Louis, IL, St. Louis Regional, Takeoff Minimums and Textual DP, Orig

Bloomington, IL, Central IL Regional Arpt at Bloomington-Normal, RNAV (GPS) RWY 11, Orig

Bloomington, IL, Central IL Regional Arpt at Bloomington-Normal, RNAV (GPS) RWY 29, Orig

Bloomington, IL, Central IL Regional Arpt at Bloomington-Normal, ILS OR LOC RWY 20, Amdt 2

Bloomington, IL, Central IL Regional Arpt at Bloomington-Normal, ILS OR LOC RWY 29, Amdt 9

Bloomington, IL, Central IL Regional Arpt at Bloomington-Normal, VOR RWY 11, Amdt 13

Bloomington, IL, Central IL Regional Arpt at Bloomington-Normal, LOC BC RWY 11, Amdt 9

Bloomington, IL, Central IL Regional Arpt at Bloomington-Normal, GPS RWY 11, Orig-A, CANCELLED

Cahokia/St. Louis, IL, St. Louis Downtown, Takeoff Minimums and Textual DP, Amdt 7

Decatur, IL, Decatur, RNAV (GPS) RWY 6, Orig

Decatur, IL, Decatur, RNAV (GPS) RWY 18, Orig

Decatur, IL, Decatur, RNAV (GPS) RWY 24, Orig

Decatur, IL, Decatur, RNAV (GPS) RWY 36, Orig

Decatur, IL, Decatur, GPS RWY 6, Orig, CANCELLED

Decatur, IL, Decatur, GPS RWY 18, Orig, CANCELLED

Decatur, IL, Decatur, GPS RWY 36, Orig, CANCELLED

Dwight, IL, Dwight, RNAV (GPS) RWY 27, Orig

Dwight, IL, Dwight, GPS RWY 27, Orig, CANCELLED

Frankfort, IL, Frankfort, VOR OR GPS RWY 27, Amdt 4, CANCELLED

Frankfort, IL, Frankfort, Takeoff Minimums and Textual DP, Amdt 2, CANCELLED

Jacksonville, IL, Jacksonville Muni, RNAV (GPS) RWY 4, Orig

Jacksonville, IL, Jacksonville Muni, RNAV (GPS) RWY 13, Orig

Jacksonville, IL, Jacksonville Muni, RNAV (GPS) RWY 22, Orig

Jacksonville, IL, Jacksonville Muni, RNAV (GPS) RWY 31, Orig

Jacksonville, IL, Jacksonville Muni, VOR RWY 13, Amdt 1

Lincoln, IL, Logan County, RNAV (GPS) RWY 3, Orig

Lincoln, IL, Logan County, RNAV (GPS) RWY 21, Orig

Lincoln, IL, Logan County, NDB RWY 21, Amdt 2

Lincoln, IL, Logan County, VOR RWY 3, Amdt 7

Lincoln, IL, Logan County, Takeoff Minimums and Textual DP, Amdt 1

Litchfield, IL, Litchfield Muni, RNAV (GPS) RWY 9, Orig

Litchfield, IL, Litchfield Muni, RNAV (GPS) RWY 27, Orig

Litchfield, IL, Litchfield Muni, NDB RWY 9, Amdt 6

Litchfield, IL, Litchfield Muni, NDB RWY 27, Amdt 8

Litchfield, IL, Litchfield Muni, GPS RWY 27, Orig-A, CANCELLED

Litchfield, IL, Litchfield Muni, GPS RWY 9, Orig-A, CANCELLED

Litchfield, IL, Litchfield Muni, Takeoff Minimums and Textual DP, Amdt 3

Macomb, IL, Macomb Muni, RNAV (GPS) RWY 9, Orig

Macomb, IL, Macomb Muni, RNAV (GPS) RWY 27, Orig

Macomb, IL, Macomb Muni, LOC RWY 27, Amdt 3

Macomb, IL, Macomb Muni, NDB RWY 27, Amdt 3

Macomb, IL, Macomb Muni, VOR/DME-A, Amdt 8

Springfield, IL, Abraham Lincoln Capital, RNAV (GPS) RWY 4, Orig

Springfield, IL, Abraham Lincoln Capital, RNAV (GPS) RWY 13, Orig

Springfield, IL, Abraham Lincoln Capital, RNAV (GPS) RWY 22, Orig

Springfield, IL, Abraham Lincoln Capital, RNAV (GPS) RWY 31, Orig

Springfield, IL, Abraham Lincoln Capital, ILS OR LOC RWY 4, Amdt 25

Springfield, IL, Abraham Lincoln Capital, ILS OR LOC RWY 22, Amdt 8

Springfield, IL, Abraham Lincoln Capital, ILS OR LOC RWY 31, Amdt 2

Springfield, IL, Abraham Lincoln Capital, RADAR-1, Amdt 9

Springfield, IL, Abraham Lincoln Capital, NDB RWY 4, Amdt 19

Springfield, IL, Abraham Lincoln Capital, NDB RWY 22, Amdt 1

Springfield, IL, Abraham Lincoln Capital, VOR/DME RWY 22, Orig

Springfield, IL, Abraham Lincoln Capital, VOR RWY 22, Amdt 20A, CANCELLED

Springfield, IL, Abraham Lincoln Capital, Takeoff Minimums and Textual DP, Orig

Taylorville, IL, Taylorville Muni, RNAV (GPS) RWY 18, Orig

Taylorville, IL, Taylorville Muni, RNAV (GPS) RWY 36, Orig

Taylorville, IL, Taylorville Muni, NDB RWY 18, Amdt 4

Taylorville, IL, Taylorville Muni, GPS RWY 18, Orig, CANCELLED

Taylorville, IL, Taylorville Muni, Takeoff Minimums and Textual DP, Orig

Abilene, KS, Abilene Muni, RNAV (GPS) RWY 17, Orig

Abilene, KS, Abilene Muni, RNAV (GPS) RWY 35, Orig

Abilene, KS, Abilene Muni, VOR/DME-A, Amdt 3

Abilene, KS, Abilene Muni, GPS RWY 35,Orig, CANCELLED

Abilene, KS, Abilene Muni, VOR/DME RNAV RWY 35, Amdt 2, CANCELLED

Dodge City, KS, Dodge City Regional, RNAV (GPS) RWY 14, Amdt 1

Dodge City, KS, Dodge City Regional, RNAV (GPS) RWY 32, Amdt 1

Dodge City, KS, Dodge City Regional, ILS OR LOC RWY 14, Amdt 3

Wichita, KS, Colonel James Jabara, RNAV (GPS) RWY 18, Orig-A

Wichita, KS, Colonel James Jabara, RNAV (GPS) RWY 36, Orig-A

Gaithersburg, MD, Montgomery County Airpark, RNAV (GPS) RWY 32, Amdt 1, CANCELLED

Washington, MO, Washington Memorial, Takeoff Minimums and Textual DP, Orig

Santa Fe, NM, Santa Fe Muni, ILS OR LOC RWY 2, Amdt 6

Westhampton Beach, NY, Francis S. Gabreski, RNAV (GPS) RWY 6, Amdt 1

Charlotte, NC, Charlotte/Douglas Intl, VOR RWY 36L, Amdt 5, CANCELLED

Austin, TX, Austin-Bergstrom Intl, ILS OR LOC RWY 35L, Amdt 3

Lubbock, TX, Lubbock Preston Smith Intl, ILS OR LOC RWY 26, Amdt 3

Stephenville, TX, Clark Field Muni, RNAV (GPS) RWY 14, Orig

Stephenville, TX, Clark Field Muni, RNAV (GPS) RWY 32, Orig

Stephenville, TX, Clark Field Muni, VOR/DME-A, Amdt 1

Stephenville, TX, Clark Field Muni, Takeoff Minimums and Textual DP, Orig

Blacksburg, VA, Virginia Tech/Montgomery Executive, LOC/DME RWY 12, Amdt 1

Bellingham, WA, Bellingham Intl, RNAV (GPS) RWY 16, Orig

Bellingham, WA, Bellingham Intl, RNAV (GPS) RWY 34, Orig

Bellingham, WA, Bellingham Intl, GPS RWY 16, Orig-B, CANCELLED

Bellingham, WA, Bellingham Intl, GPS RWY 34, Orig-B, CANCELLED

Rice Lake, WI, Rice Lake Regional-Carl's Field, RNAV (GPS) RWY 19, Amdt 1

* * * Effective 22 December 2005

Athens (Albany), OH, Ohio University Snyder Field, RNAV (GPS) RWY 7, Orig-A

Athens (Albany), OH, Ohio University Snyder Field, RNAV (GPS) RWY 25, Orig-A

[FR Doc. 05-17475 Filed 9-1-05; 8:45 am]

BILLING CODE 4910-13-P